DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Colorado: Arapahoe (FEMA Docket No.: B-2232) | City of Greenwood Village (21-08-0598P) | The Honorable George Lantz, Mayor, City of Greenwood Village, 6060 South Quebec Street, Greenwood Village, CO 80111. | City Hall, 6060 South Quebec Street, Greenwood Village, CO 80111. | Jul. 15, 2022 | 080195
Florida:
Lake (FEMA Docket No.: 2231). | City of Leesburg (22-04-1150P). | Al Minner, Manager, City of Leesburg, P.O. Box 490630, Leesburg, FL 34749. | Planning and Zoning Department, 204 North 5th Street, Leesburg, FL 34748. | Jul. 13, 2022 | 120136
Lake (FEMA Docket No.: B-2231). | Unincorporated areas of Lake County (22-04-1150P). | Jennifer Barker, Lake County Interim Manager, P.O. Box 7800, Tavares, FL 32778. | Lake County Public Works Department, 323 North Sinclair Avenue, Tavares, FL 32778. | Jul. 13, 2022 | 120421
Manatee (FEMA Docket No.: B-2231). | Unincorporated areas of Manatee County (21-04-0488P). | The Honorable Kevin Van Ostenbridge, Chair, Manatee County Board of Commissioners, 1112 Manatee Avenue West, Bradenton, FL 34205. | Manatee County Building and Development Services Department, 1112 Manatee Avenue West, Bradenton, FL 34205. | Jul. 12, 2022 | 120153
Marion (FEMA Docket No.: B-2231). | City of Ocala (21-04-4034P). | Sandra R. Wilson, Manager, City of Ocala, 110 Southeast Watula Avenue, Ocala, FL 34471. | Stormwater Engineering Department, 1805 Northeast 30th Avenue, Building 300, Ocala, FL 34470. | Jul. 7, 2022 | 120330
Monroe (FEMA Docket No.: B-2231). | Unincorporated areas of Monroe County (22-04-1070P). | The Honorable David Rice, Mayor, Monroe County Board of Commissioners, 9400 Overseas Highway, Suite 210, Marathon, FL 33050. | Monroe County Building Department, 2798 Overseas Highway, Suite 300, Marathon, FL 33050. | Jul. 11, 2022 | 125129
Palm Beach (FEMA Docket No.: B-2232). | Unincorporated areas of Palm Beach County (21-04-3850P). | Verdenia C. Baker, Palm Beach County Administrator, 301 North Olive Avenue, West Palm Beach, FL 33401. | Palm Beach County Building Division, 2300 North Jog Road, West Palm Beach, FL 33411. | Jul. 13, 2022 | 120192
Walton (FEMA Docket No.: B-2231). | Unincorporated areas of Walton County (20-04-4412P). | The Honorable Michael Barker, Chair, Walton County Board of Commissioners, 552 Walton Road, DeFuniak Springs, FL 32433. | Walton County Administration Building, 76 North 6th Street, DeFuniak Springs, FL 32433. | Jul. 12, 2022 | 120317
Maine: York (FEMA Docket No.: B-2231). | Town of Kennebunk (21-01-1064P). | Michael W. Pardue, Manager, Town of Kennebunk, 1 Summer Street, Kennebunk, ME 04043. | Town Hall, 1 Summer Street, Kennebunk, ME 04043. | Jul. 11, 2022 | 230151
North Carolina:
Cabarrus (FEMA Docket No.: B-2251). | Unincorporated areas of Cabarrus County (21-04-2265P). | The Honorable Steve Morris, Chair, Cabarrus County Board of Commissioners, P.O. Box 707, Concord, NC 28026. | Cabarrus County Planning Services Department, 65 Church Street Southeast, Concord, NC 28025. | Jul. 11, 2022 | 370036
Harnett (FEMA Docket No.: B-2251). | Unincorporated areas of Harnett County (21-04-4957P). | The Honorable Lewis Weatherspoon, Chair, Harnett County, Board of Commissioners, 455 McKinney Parkway, Lillington, NC 27546. | Harnett County, Planning Services Department, 102 East Front Street, Lillington, NC 27546. | Jul. 20, 2022 | 370328
Mecklenburg (FEMA Docket No.: B-2231). | Town of Mint Hill (21-04-4211P). | The Honorable Brad Simmons, Mayor, Town of Mint Hill, 4430 Mint Hill Village Lane, Mint Hill, NC 28227. | Planning Department, 4430 Mint Hill Village Lane, Mint Hill, NC 28227. | Jul. 13, 2022 | 370539
North Dakota: Burleigh (FEMA Docket No.: B-2231). | City of Bismarck (21-08-1104P). | The Honorable Steven Bakken, Mayor, City of Bismarck, P.O. Box 5503, Bismarck, ND 58506. | Community Development Department, 221 North 5th Street, Bismarck, ND 58501. | Jul. 13, 2022 | 380149
Texas:
Bexar (FEMA Docket No.: B-2232). | City of San Antonio (21-06-2757P). | The Honorable Ron Nirenberg, Mayor, City of San Antonio, P.O. Box 839966, San Antonio, TX 78283. | Transportation and Capital Improvements Department, Stormwater Division, 1901 South Alamo Street, San Antonio, TX 78204. | Jul. 11, 2022 | 480045
Harris (FEMA Docket No.: B-2232). | Unincorporated areas of Harris County (21-06-1709P). | The Honorable Lina Hidalgo, Harris County Judge, 1001 Preston Street, Suite 911, Houston, TX 77002. | Harris County Engineering Department, Permit Division, 10555 Northwest Freeway, Suite 120, Houston, TX 77002. | Jul. 18, 2022 | 480287
Harris (FEMA Docket No.: B-2232). | Unincorporated areas of Harris County (21-06-3108P). | The Honorable Lina Hidalgo, Harris County Judge, 1001 Preston Street, Suite 911, Houston, TX 77002. | Harris County Engineering Department, Permit Division, 10555 Northwest Freeway, Suite 120, Houston, TX 77002. | Jul. 18, 2022 | 480287
McLennan (FEMA Docket No.: B-2231). | City of Hewitt (21-06-1238P). | The Honorable Steve Fortenberry, Mayor, City of Hewitt, 200 Patriot Court, Hewitt, TX 76643. | Community Services Department, 103 North Hewitt Drive, Hewitt, TX 76643. | Jul. 12, 2022 | 480458
McLennan (FEMA Docket No.: B-2231). | City of Waco (21-06-1238P). | The Honorable Dillon Meek, Mayor, City of Waco, 300 Austin Avenue, Waco, TX 76702. | City Hall, 300 Austin Avenue, Waco, TX 76702. | Jul. 12, 2022 | 480461
Montgomery (FEMA Docket No.: B-2232). | Unincorporated areas of Montgomery County (21-06-1709P). | The Honorable Mark J. Keough, Montgomery County Judge, 501 North Thompson Street, Suite 401, Conroe, TX 77301. | Montgomery County Engineering Department, 501 North Thompson Street, Suite 103, Conroe, TX 77301. | Jul. 18, 2022 | 480483
Tarrant (FEMA Docket No.: B-2231). | City of Fort Worth (21-06-1533P). | The Honorable Mattie Parker, Mayor, City of Fort Worth, 200 Texas Street, Fort Worth, TX 76102. | Department of Transportation and Public Works, 200 Texas Street, Fort Worth, TX 76102. | Jul. 11, 2022 | 480596
Webb (FEMA Docket No.: B-2232). | City of Laredo (21-06-1751P). | The Honorable Pete Saenz, Mayor, City of Laredo, 1110 Houston Street, 3rd Floor, Laredo, TX 78040. | Planning and Zoning Department, 1413 Houston Street, Laredo, TX 78040. | Jul. 7, 2022 | 480651
Williamson (FEMA Docket No.: B-2231). | Unincorporated areas of Williamson County (21-06-2883P). | The Honorable Bill Gravell, Jr., Williamson County Judge, 710 South Main Street, Suite 101, Georgetown, TX 78626. | Williamson County Engineering Department, 3151 Southeast Inner Loop, Georgetown, TX 78626. | Jul. 7, 2022 | 481079
Utah:
Wasatch (FEMA Docket No.: B-2232). | Town of Wallsburg (21-08-0901P). | The Honorable Celeni Richins, Mayor, Town of Wallsburg, 70 West Main Canyon Road, Wallsburg, UT 84082. | Town Hall, 70 West Main Canyon Road, Wallsburg, UT 84082. | Jul. 14, 2022 | 490168
Wasatch (FEMA Docket No.: B-2232). | Unincorporated areas of Wasatch County (21-08-0901P). | Dustin Grabau, Wasatch County Manager, 25 North Main Street, Heber City, UT 84032. | Wasatch County Planning Department, 55 South 500 Street East, Heber City, UT 84032. | Jul. 14, 2022 | 490164
Virginia: Albemarle (FEMA Docket No.: B-2231). | Unincorporated areas of Albemarle County (21-03-1458P). | Jeff Richardson, Albemarle County Executive, 401 McIntire Road, Suite 228, Charlottesville, VA 22902. | Albemarle County Community Development Department, 401 McIntire Road, Charlottesville, VA 22902. | Jul. 13, 2022 | 510006

[FR Doc. 2022-16756 Filed 8-3-22; 8:45 am]

BILLING CODE 9110-12-P